DEPARTMENT OF AGRICULTURE

Rural Business-Cooperative Service

Inviting Applications for Renewable Energy Systems and Energy Efficiency Improvements Grants and Guaranteed Loans

AGENCY: Rural Business-Cooperative Service (RBS), USDA.

ACTION: Notice.

SUMMARY: Rural Business-Cooperative Service (RBS), an Agency within the United States Department of Agriculture (USDA) Rural Development, announces it is accepting applications for fiscal year (FY) 2008 to purchase renewable energy systems and make energy efficiency improvements for agriculture producers and rural small businesses in eligible rural areas. Funding will be available in the form of grants and loan guarantees. In addition to stand-alone grants and loan guarantees, applicants may apply for combination loan guarantee and grant funding (combination package).

For renewable energy systems, the minimum grant is $2,500 and the maximum is $500,000. For energy efficiency improvements, the minimum grant is $1,500 and the maximum is $250,000. Funding for grant and loan combination packages will be funded from the same allocation as loan guarantees. Fifty percent of the appropriated grant funding will be reserved for the first grant-only competition. Any unused grant only funds from the first competition will be made available for the second grant-only competition.

The maximum amount of a guarantee to be provided to a borrower will be $10 million. For FY 2008, the guarantee fee amount is 1 percent of the guaranteed portion of the loan and the annual renewal fee is 0.250 percent (one-quarter of one percent) of the guaranteed portion of the loan.

For FY 2008, the following are the funds provided by Congress for the Section 9006 program: For grants, $15,888,000, and for loans, $204,953,560.

DATES: The USDA will issue one grant solicitation for two separate competitions in FY 2008. Competitive deadlines will occur in accordance with deadlines as follows:

Grants

For the first competitive window, complete (see 7 CFR 4280.111) grant-only applications, must be submitted to the appropriate USDA Rural Development State Office no later than April 15, 2008. For the second competitive window, complete (see 7 CFR 4280.111) grant-only applications must be submitted to the appropriate USDA Rural Development State Office no earlier than April 16, 2008, and no later than June 16, 2008. Applications submitted under the first competition that are not selected will automatically be considered under the second competition, using the materials and score from the first competition (i.e., no changes to scored applications will be accepted). It is anticipated that two grant award announcements will be made. The first announcement is anticipated prior to June 16, 2008, and the second, prior to September 16, 2008.

Guaranteed Loans

Complete guaranteed loan applications will be accepted and processed, until June 16, 2008, in a rolling application manner. Applications for loan guarantees must be completed and submitted to the appropriate USDA Rural Development State Office no later than June 16, 2008. No application received in the State Office after June 16, 2008, will be considered.

Combination Packages

Complete combination packages will be accepted and processed, until June 16, 2008. Once funds become available, combination packages will be evaluated on a bi-weekly basis. Combination applications must be completed and submitted to the appropriate USDA Rural Development State Office no later than June 16, 2008. No application received after June 16, 2008, will be considered.

Any unused funding as of August 15, 2008, may be pooled and revert to grant money. All submissions must be received at the applicable office by 4:30 p.m. local time on the deadline date.

The application closing deadlines for grant, loan guarantee, and combination packages are firm. USDA Rural Development will not consider any application that is received after the closing deadline. In addition to the application requirements stated in 7 CFR part 4280-B, a complete application will include all environmental review documents with supporting documentation in accordance with 7 CFR part 1940 subpart G. The application must be complete before the State Office forwards the application to the National Office for funding consideration.

ADDRESSES: Submit applications to the USDA Rural Development State Office in the state where your project is located. A list of the USDA Rural Development State Offices and Energy Coordinators addresses and telephone numbers follow. For further information about this solicitation, please contact the applicable State Office. This document is available on our Web site at http://www.rurdev.usda.gov/rbs/farmbill/index.html.

USDA State Rural Development Offices

Alabama

Quinton Harris, USDA Rural Development, Sterling Centre, Suite 601, 4121 Carmichael Road, Montgomery, AL 36106-3683, (334) 279-3623

Alaska

Dean Stewart, USDA Rural Development, 800 West Evergreen, Suite 201, Palmer, AK 99645-6539, (907) 761-7722

Arizona

Alan Watt, USDA Rural Development, 230 North First Avenue, Suite 206, Phoenix, AZ 85003-1706, (602) 280-8769

Arkansas

Tim Smith, USDA Rural Development, 700 West Capitol Avenue, Room 3416, Little Rock, AR 72201-3225, (501) 301-3280

California

Charles Clendenin, USDA Rural Development, 430 G Street, AGCY 4169, Davis, CA 95616, (530) 792-5825

Colorado

April Dahlager, USDA Rural Development, 655 Parfet Street, Room E-100, Lakewood, CO 80215, (720) 544-2909

Delaware-Maryland

James Waters, USDA Rural Development, 1221 College Park Drive, Suite 200, Dover, DE 19904, (302) 857-3626

Florida/Virgin Islands

Joe Mueller, USDA Rural Development, 4440 NW. 25th Place, Gainesville, FL 32606, (352) 338-3482

Georgia

J. Craig Scroggs, USDA Rural Development, 111 E. Spring St., Suite B, Monroe, GA 30655, Phone 770-267-1413 ext. 113

Hawaii

Tim O'Connell, USDA Rural Development, Federal Building, Room 311, 154 Waianuenue Avenue, Hilo, HI 96720, (808) 933-8313

Idaho

Brian Buch, USDA Rural Development, 725 Jensen Grove Drive, Suite 1, Blackfoot, ID 83221, (208) 785-5840, Ext. 118

Illinois

Molly Hammond, USDA Rural Development, 2118 West Park Court, Suite A, Champaign, IL 61821, (217) 403-6210

Indiana

Jerry Hay, USDA Rural Development, 2411 N. 1250 W., Deputy, IN 47230, (812) 873-1100

Iowa

Teresa Bomhoff, USDA Rural Development, 873 Federal Building, 210 Walnut Street, Des Moines, IA 50309, (515) 284-4447

Kansas

David Kramer, USDA Rural Development, 1303 SW First American Place, Suite 100, Topeka, KS 66604-4040, (785) 271-2744

Kentucky

Scott Maas, USDA Rural Development, 771 Corporate Drive, Suite 200, Lexington, KY 40503, (859) 224-7435

Louisiana

Kevin Boone, USDA Rural Development, 905 Jefferson Street, Suite 320, Lafayette, LA 70501, (337) 262-6601

Maine

John F. Sheehan, USDA Rural Development, 967 Illinois Avenue, Suite 4, P.O. Box 405, Bangor, ME 04402-0405, (207) 990-9168

Massachusetts/Rhode Island/Connecticut

Charles W. Dubuc, USDA Rural Development, 60 Quaker Lane, Suite 44, Warwick, RI 02886, (401) 826-0842

Michigan

Traci J. Smith, USDA Rural Development, 3001 Coolidge Road, Suite 200, East Lansing, MI 48823, (517) 324-5225

Minnesota

Lisa L. Noty, USDA Rural Development, 1400 West Main Street, Albert Lea, MN 56007, (507) 373-7960 Ext. 120

Mississippi

G. Gary Jones, USDA Rural Development, Federal Building, Suite 831, 100 West Capitol Street, Jackson, MS 39269, (601) 965-5457

Missouri

Matt Moore, USDA Rural Development, 601 Business Loop 70 West, Parkade Center, Suite 235, Columbia, MO 65203, (573) 876-9321

Montana

John Guthmiller, USDA Rural Development, 900 Technology Blvd., Unit 1, Suite B, P.O. Box 850, Bozeman, MT 59771, (406) 585-2540

Nebraska

Debra Yocum, USDA Rural Development, 100 Centennial Mall North, Room 152, Federal Building, Lincoln, NE 68508, (402) 437-5554

Nevada

Herb Shedd, USDA Rural Development, 1390 South Curry Street, Carson City, NV 89703, (775) 887-1222

New Hampshire (See Vermont)

New Jersey

Victoria Fekete, USDA Rural Development, 8000 Midlantic Drive, 5th Floor North, Suite 500, Mt. Laurel, NJ 08054, (856) 787-7753

New Mexico

Eric Vigil, USDA Rural Development, 6200 Jefferson Street, NE., Room 255, Albuquerque, NM 87109, (505) 761-4952

New York

Thomas Hauryski, USDA Rural Development, 415 West Morris Street, Bath, NY 14810, (607) 776-7398 Ext. 132

North Carolina

H. Rossie Bullock, USDA Rural Development, 4405 Bland Road, Suite 260, Raleigh, NC 27609, (910) 739-3349 Ext. 4

North Dakota

Dennis Rodin, USDA Rural Development, Federal Building, Room 208, 220 East Rosser Avenue, P.O. Box 1737, Bismarck, ND 58502-1737, (701) 530-2029

Ohio

Randy Monhemius, USDA Rural Development, Federal Building, Room 507, 200 North High Street, Columbus, OH 43215-2418, (614) 255-2424

Oklahoma

Jody Harris, USDA Rural Development, 100 USDA, Suite 108, Stillwater, OK 74074-2654, (405) 742-1036

Oregon

Don Hollis, USDA Rural Development, 1229 SE Third Street, Suite A, Pendleton, OR 97801-4198, (541) 278-8049, Ext. 129

Pennsylvania

Bernard Linn, USDA Rural Development, One Credit Union Place, Suite 330, Harrisburg, PA 17110-2996, (717) 237-2182

Puerto Rico

Luis Garcia, USDA Rural Development, IBM Building, 654 Munoz Rivera Avenue, Suite 601, Hato Rey, PR 00918-6106, (787) 766-5091, Ext. 251

South Carolina

Shannon Legree, USDA Rural Development, Strom Thurmond Federal Building, 1835 Assembly Street, Room 1007, Columbia, SC 29201, (803) 765-5881

South Dakota

Douglas Roehl, USDA Rural Development, Federal Building, Room 210, 200 4th Street, SW., Huron, SD 57350, (605) 352-1145

Tennessee

Will Dodson, USDA Rural Development, 3322 West End Avenue, Suite 300, Nashville, TN 37203-1084, (615) 783-1350

Texas

Daniel Torres, USDA Rural Development, Federal Building, Suite 102, 101 South Main Street, Temple, TX 76501, (254) 742-9756

Utah

Roger Koon, USDA Rural Development, Wallace F. Bennett Federal Building, 125 South State Street, Room 4311, Salt Lake City, UT 84138, (801) 524-4301

Vermont/New Hampshire

Lyn Millhiser, USDA Rural Development, City Center, 3rd Floor 89 Main Street, Montpelier, VT 05602, (802) 828-6069

Virginia

Laurette Tucker, USDA Rural Development, Culpeper Building, Suite 238, 1606 Santa Rosa Road, Richmond, VA 23229, (804) 287-1594

Washington

Mary Traxler, USDA Rural Development, 1835 Black Lake Blvd. SW, Suite B, Olympia, WA 98512, (360) 704-7707

West Virginia

Cheryl Wolfe, USDA Rural Development, 75 High Street, Room 320, Morgantown, WV 26505-7500, (304) 284-4882

Wisconsin

Mark Brodziski, USDA Rural Development, 4949 Kirschling Court, Stevens Point, WI 54481, (715) 345-7600, Ext. 131

Wyoming

Jon Crabtree, USDA Rural Development, Dick Cheney Federal Building, 100 East B Street, Room 1005, P.O. Box 820, Casper, WY 82602, (307) 233-6719

SUPPLEMENTARY INFORMATION: This solicitation is issued pursuant to Section 9006 of the Farm Security and Rural Investment Act of 2002 (2002 Act), which established the Renewable Energy Systems and Energy Efficiency Improvements Program (Section 9006). The program is designed to help agricultural producers and rural small businesses reduce energy costs and consumption and help meet the Nation's critical energy needs. The 2002 Act mandates the maximum percentages of funding that USDA Rural Development will provide. Grants under this program will not exceed 25 percent of the eligible project costs. Loan guarantees will not exceed 50 percent of the eligible project costs. Funding approved for combination guaranteed loan and grant packages will not exceed 50 percent of eligible project cost, with the grant portion not to exceed 25 percent of eligible project costs.

As stated in 7 CFR 4280.108, projects must be for a pre-commercial or commercially available technology. The definition of “pre-commercial” and “commercial” are at 7 CFR 4280.103. The Agency's position is that if the system is currently commercially available only outside the United States (U.S.), then applicants must provide authoritative evidence of the foreign operating history, performance, and reliability in order to address the proven operating history identified in the definition. “Commercial” applicants must provide evidence that professional service providers, trades, large construction equipment providers and labor are readily available domestically and familiar with installation procedures and practices, and spare parts and service are readily available in the U.S. to properly maintain and operate the system. All warranties must be valid in the U.S.

In accordance with the definition of “pre-commercial” technology found in 7 CFR 4280.103, technical and economic potential for commercial application must be demonstrated to the Agency. In order to demonstrate the system has emerged through research and development as well as the demonstration process, applicants must provide, authoritative evidence of the operating history, performance, and reliability past completion of start-up, shake-down, and/or commissioning. Typically, and inline with financial and operating performance evaluation protocol, the documented operating history, which may be established domestically or outside the U.S., should provide performance data for a minimum of 12 months. The time period will address the economic and technical performance potential identified in 7 CFR 4280.103.

In accordance with demonstrating the potential for commercial application, applicants must provide evidence that professional service providers, trades, large construction equipment providers, and labor are potentially available domestically and sufficiently familiar with installation procedures and practices, and spare parts and service are available in the U.S. to properly maintain and operate the system. Any warranties would have to be valid in the U.S.

Information required to be in the grant application package is contained in 7 CFR 4280.111. Awards are made on a competitive basis using specific evaluation criteria contained in 7 CFR 4280.112(e). To ensure that projects are accurately scored by USDA, applicants are requested to tab and number each evaluation criteria and include in that section, its corresponding supporting documentation and calculations according to 7 CFR 4280.112. Only projects that have completed the environmental review process according to 7 CFR 4280.114(d), demonstrated project eligibility according to 7 CFR 4280.108, demonstrated technical feasibility, and are complete will be eligible for funding consideration.

State Offices will submit eligible grant funding requests, with the State Office executed score sheets, including all supporting documentation to the National Office for funding consideration.

To reduce scoring bias by technology and scale, a standard statistical normalization process will be applied to all competitive grant application scores. All applicants will be notified by the USDA Rural Development State Offices of the Agency's decision on the awards.

Information required to be in the guaranteed loan application and the combination guaranteed loan and grant application package is contained in 7 CFR 4280.128 and 7 CFR 4280.193(c), respectively.

• Guaranteed loan applications will be received and processed, on a rolling basis, until June 16, 2008, or funds are exhausted, whichever occurs first.

• Combination packages will also be received and processed on a rolling basis until June 16, 2008. However, due to the grant component, competitive scoring of combination packages will take place on a bi-weekly basis. Awards will be announced based on the bi-weekly competition schedule until funds are exhausted or there are no remaining qualified applicants. Combination applications may only be submitted by applicants that demonstrate financial need. Combination applicants that are approved for funding must accept and utilize both the loan and the grant. In addition, to ensure equitable competition, and high quality projects, the grant portion of any combination package must score at least 70 percent of the available points (minimum of 84 points), of which at least 24 points must be for technical merit. Only those combination packages that demonstrate financial need and score a sufficient amount of grant points will be considered for funding. Applications that do not meet these thresholds may be resubmitted as a guaranteed loan only application.

All applicants will be notified by the USDA Rural Development State Offices in regards to the Agency's decision on their application.

This program is listed in the Catalog of Federal Domestic Assistance under Number 10.775 and is subject to the provisions of Executive Order 12372, which requires intergovernmental consultation with state and local officials.

USDA is participating as a partner in the government-wide Grants.gov site. Applicants may submit grant-only applications to the Agency in either electronic or paper format. Please be mindful that the application deadline for electronic format differs from the deadline for paper format. The electronic format deadline will be based on Washington, DC time. The paper format deadline is local time for each USDA Rural Development State Office.

Users of Grants.gov will be able to download a copy of the application package, complete it off line, and then upload and submit the application via the Grants.gov site. You may not e-mail an electronic copy of a grant application to USDA Rural Development; however, the Agency encourages your participation in Grants.gov.

• When you enter the Grants.gov site, you will find information about submitting an application electronically through the site as well as the hours of operation. USDA Rural Development strongly recommends that you do not wait until the application deadline date to begin the application process through Grants.gov. To use Grants.gov, applicants must have a Dun and Bradstreet Data Universal Numbering System (DUNS) number which can be obtained at no cost via a toll-free request line at 1-866-705-5711 or online at http://fedgov.dnb.com/webform.

• You may submit all documents electronically through the Web site, including all information typically included on the application for Renewable Energy Systems and Energy Efficiency Improvements Program, and all necessary assurances and certifications. After electronically submitting an application through the Web site, the applicant will receive an automatic acknowledgement from Grants.gov that contains a Grants.gov tracking number.

• USDA Rural Development may request that the applicant provide original signatures on forms at a later date.

• If applicants experience technical difficulties on the closing date and are unable to meet the 4:30 p.m. (Washington, DC time) deadline, print out your application and submit it to your respective State Office. If applicants submit applications to a State Office, applicants must meet the closing date and local time deadlines.

Applicants may access the electronic grant application for Renewable Energy Systems and Energy Efficiency Improvements Program at http://www.Grants.gov.

Please note that applicants must locate the downloadable application package for this program by the CFDA Number or FedGrants Funding Opportunity Number, which can be found at http://www.Grants.gov.

Paperwork Reduction Act

In accordance with the Paperwork Reduction Act, the paperwork burden has been cleared by the Office of Management and Budget (OMB) under OMB Control Number 0570-0050.

Nondiscrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (braille, large print, audiotape, etc.) should contact USDA's TARGET Center at (202) 720-2600 (voice and TDD).

To file a complaint of discrimination, write to USDA, Director, Office of Civil Rights, 1400 Independence Avenue, SW., Washington, DC 20250-9410, or call (800) 795-3272 (voice), or (202) 720-6382 (TDD). “USDA is an equal opportunity provider, employer, and lender.”

Dated: February 29, 2008.
Ben Anderson,
Administrator, Rural Business-Cooperative Service.

[FR Doc. E8-4305 Filed 3-4-08; 8:45 am]

BILLING CODE 3410-XY-P